DEPARTMENT OF HOMELAND SECURITY

Federal Emergency Management Agency

44 CFR Part 65

Changes in Flood Elevation Determinations

AGENCY: Federal Emergency Management Agency, Emergency Preparedness and Response Directorate, Department of Homeland Security.

ACTION: Final rule.

SUMMARY: Modified Base (1% annual-chance) Flood Elevations (BFEs) are finalized for the communities listed below. These modified elevations will be used to calculate flood insurance premium rates for new buildings and their contents.

EFFECTIVE DATES: The effective dates for these modified BFEs are indicated on the table below and revise the Flood Insurance Rate Maps (FIRMs) in effect for the listed communities prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified BFE determinations are available for inspection.

The modifications are made pursuant to Section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief executive officer of community | Effective date of modification | Community No.
Arkansas: Sebastian, Case Number: 04-06-0667P; FEMA Docket No.: P 7644 | City of Fort Smith | March 22, 2005; March 29, 2005; Southwest Times Record | The Honorable C. Ray Baker, Jr. Mayor, City of Fort Smith, 4420 Victoria Drive, Fort Smith, Arkansas 72904 | June 28, 2005 | 055013
Illinois: Cook, Case Number: 03-05-3983P; FEMA Docket No.: P7644 | Village of Orland Park | March 17, 2005; March 24, 2005; Orland Park Star | The Hon. Daniel J. McLaughlin Mayor, Village of Orland Park, 14700 South Ravinia Avenue, Orland Park, Illinois 60462 | February 28, 2005 | 170140
Illinois: Will, Case Number: 04-05-3555P; FEMA Docket No.: P7644 | Village of Rockdale | February 21, 2005; February 28, 2005; The Herald News | The Honorable Henry Berry, President, Village of Rockdale, 603 Otis Avenue, Rockdale, Illinois 60436 | May 30, 2005 | 170710
Minnesota: Dakota, Case Number: 04-05-2890P; FEMA Docket No.: P7644 | Unincorporated Areas | March 3, 2005; March 10, 2005; Dakota Country Tribune | Mr. Brandt Richardson, Administrator, Dakota County, Dakota County Administration Bldg., 1590 Highway 55, Hastings, Minnesota 55033-2372 | June 9, 2005 | 270101
Minnesota: Washington and Dakota, Case Number: 04-05-2890P; FEMA Docket No.: P7644 | City of Hastings | March 3, 2005; March 10, 2005; Dakota County Tribune | The Honorable Michael Werner, Mayor, City of Hastings, 100 East 4th Street, Hastings, MN 55033 | June 9, 2005 | 270105
Minnesota: Washington, Case Number 04-05-4071P; FEMA Docket No.: P7644 | City of Hugo | April 13, 2005; April 20, 2005; The White Bear Press | The Honorable Fran Miron, Mayor, City of Hugo, 15250 Homestead Avenue North, Hugo, Minnesota 55038 | March 29, 2005 | 270504
Missouri: Cape Girardeau, Case Number: 04-07-533P; FEMA Docket No.: P7644 | City of Cape Girardeau | March 22, 2005; March 29, 2005; Southeast Missourian | The Honorable Jay Knudtson Mayor, City of Cape Girardeau, City Hall, 401 Independence Street, Cape Girardeau, Missouri 63705 | March 3, 2005 | 290458
Missouri: Cape Girardeau, Case Number: 04-07-533P; FEMA Docket No.: P7644 | Unincorporated Areas | March 22, 2005; March 29, 2005; Southeast Missourian | Mr. Gerald Jones, Presiding Commissioner, Cape Girardeau County Commission, 1 Barton Square, Jackson, Missouri 63755 | April 4, 2005 | 290790
Missouri: St. Louis, Case Number: 04-07-050P; FEMA Docket No.: P7644 | City of Ferguson | March 23, 2005; March 30, 2005; St. Louis Post Dispatch | The Honorable Steven Wegert, Mayor, City of Ferguson, 110 Church Street, Ferguson, Missouri 63135 | June 29, 2005 | 290351
Missouri: St. Louis, Case Number: 04-07-050P; FEMA Docket No.: P7644 | Unincorporated Areas | March 23, 2005; March 30, 2005; St. Louis Dispatch | Mr. Charlie A. Dooley, St. Louis County Executive, 41 South Central Avenue, Clayton, Missouri 63105 | June 29, 2005 | 290327
New Mexico: Bernalillo, Case Number: 04-06-2142P; FEMA Docket No.: P7644 | Unincorporated Areas | April 20, 2005; April 27, 2005; The Albuquerque Journal | Mr. Tom Rutherford, Commissioner, Bernalillo County, One Civic Plaza, N.W., Albuquerque, New Mexico 87102 | July 27, 2005 | 350001
Ohio: Lorain, Case Number: 04-05-4063P; FEMA Docket No.: P7644 | Unincorporated Areas | Apirl 6, 2005; April 13, 2005; The Morning Journal | The Honorable James R. Cordes, Lorain County Administrator, 226 Middle Avenue, Elyria, Ohio 44035 | July 13, 2005 | 390346
Oklahoma: Oklahoma, Case Number: 04-06-1925P; FEMA Docket No.: P7644 | City of Oklahoma City | February 16, 2005; February 23, 2005; The Daily Oklahoman | The Honorable Mick Cornett, Mayor, City of Oklahoma City, 200 North Walker, 3rd Floor, Oklahoma City, Oklahoma 73102 | February 2, 2005 | 405378
Texas: Taylor and Jones, Case Number: 04-06-1912P; FEMA Docket No.: P7644 | City of Abiline | March 2, 2005; March 9, 2005; The Abilene Reporter-News | The Honorable Grady Barr, Mayor, City of Abilene, Post Office Box 60, Abilene, Texas 79604 | February 8, 2005 | 485450
Texas: Collin, Case Number: 04-06-573P; FEMA Docket No.: P7644 | City of Allen | March 3, 2005; March 10, 2005; The Allen American | The Honorable Steve Terrell, Mayor, City of Allen, 305 Century Parkway, Allen, Texas 75013 | February 9, 2005 | 480131
Texas: Tarrant, Case Number: 04-06-1206P; FEMA Docket No.: P7644 | City of Forth Worth | February 18, 2005; February 25, 2005; The Star Telegram | The Hon. Michael J. Moncrief, Mayor, City of Fort Worth, 1000 Throckmorton Street, Fort Worth, Texas 76102-6311 | May 27, 2005 | 480596
Texas: Collin, Case Number: 03-06-2038P; FEMA Docket No.: P7644 | City of Frisco | August 6, 2004; August 13, 2004; The Frisco Enterprise | The Honorable Mike Simpson, Mayor, City of Frisco, 6891 Main Street, Frisco, Texas 75034 | July 21, 2004 | 480134
Texas: Collin, Case Number: 04-06-868P; FEMA Docket No.: P7644 | City of Frisco | February 25, 2005; March 4, 2005; The Frisco Enterprise | The Honorable Mike Simpson, Mayor, City of Frisco, 6891 Main Street, Frisco, Texas 75034 | June 3, 2005 | 480134
Texas: Hays, Case Number: 04-06-1456P; FEMA Docket No.: P7644 | Unincorporated Areas | April 14, 2005; April 21, 2005; San Marcos Daily Record | The Honorable Jim Powers, Judge, Hays County, 111 East San Antonio Street, Suite 300, San Marcos, Texas 78666 | March 31, 2005 | 480321
Texas: Ellis, Case Number: 04-06-1901P; FEMA Docket No.: P7644 | City of Midlothian | March 30, 2005; April 6, 2005; The Midlothian Mirror | The Honorable David Setzer, Mayor, City of Midlothian, 104 West Avenue East, Midlothian, Texas 76065 | March 15, 2005 | 480801
Texas: Comal & Guadalupe, Case Number: 04-06-1906P; FEMA Docket No.: P7644 | City of New Braunfels | February 23, 2005; March 2, 2005; New Braunfels, Herald-Zeitung | The Honorable Adam Cork, Mayor, City of New Braunfels, Post Office box 311747, New Braunfels, Texas 78131-1747 | June 1, 2005 | 485493
Texas: Parker, Case Number: 04-06-1004P; FEMA Docket No.: P7644 | Unincorporated Areas | February 16, 2005; February 23, 2005; The Weatherford Democrat | The Honorable Mark Riley, Parker County Judge, One Courthouse Square, Weatherford, TX 76086 | May 25, 2005 | 480520
Texas: Collin, Case Number: 04-06-0150P; FEMA Docket No.: P7644 | City of Plano | March 23, 2005; March 30, 2005; The Plano Star Courier | The Honorable Pat Evans, Mayor, City of Plano, Post Office Box 860358. Plans, Texas 75086-0358 | June 29, 2005 | 480140
Texas: Parker, Case Number: 04-06-1004P; FEMA Docket No.: P7644 | City of Weatherford | February 16, 2005; February 23, 2005; The Weatherford Democrat | The Honorable Joe M. Tison, Mayor, City of Weatherford, One Courthouse Square, Weatherford, Texas 76086 | May 25, 2005 | 480522
Texas: Tarrant, Case Number: 04-06-1206P; FEMA Docket No.: P7644 | Village of Westworth | February 18, 2005; February 25, 2005; The Star Telegram | The Honorable Any Fontenot, Mayor, Village of Westworth Village, 311 Burton Hill Road, Fort Worth, Texas 76114 | May 27, 2005 | 480616
Texas: Williamson, Case Number: 04-06-1455P; FEMA Docket No.: P7644 | Unincorporated Areas | March 2, 2005; March 9, 2005; Williamson County Sun | The Honorable John C. Doerfler, Judge, Williamson County, 710 Main Street, Suite 201, Georgetown, Texas 78626 | February 8, 2005 | 481079
Texas: Parker, Case Number: 04-06-1004P; FEMA Docket No.: P7644 | City of Willow Park | February 16, 2005; February 23, 2005; The Weatherford Democrat | The Hon. James H. Poythress, Mayor, City of Willow Park, 101 Stagecoach Trail, Willow Park, Texas 76087 | May 25, 2005 | 481164
Wisconsin: Fond du Lac, Case Number: 04-05-4086P; FEMA Docket No.: P7644 | City of Fond du Lac | March 2, 2005; March 9, 2005; The Reporter | Mr. Tom W. Ahrens, City Manager, City of Fond du Lac, 160 South Macy Street, Fond du Lac, Wisconsin 54935 | June 8, 2005 | 550136
Wisconsin: Fond du Lac, Case Number: 04-05-4086P; FEMA Docket No.: P7644 | Unincorporated Areas | March 2, 2005; March 9, 2005; The Reporter | Mr. Alen J. Buechel, Fond du Lac County Executive, 160 South Macy Street, Fond du Lac, Wisconsin 54935 | June 8, 2005 | 550131
Wisconsin: Manitowoc, Case Number: 04-05-4084P; FEMA Docket No.: P7644 | Unincorporated Areas | March 2, 2005; March 9, 2005; Herald Times Reporter | The Honorable Paul Hansen, Manitowoc County Board Chairman, Administrative Office Building, 1110 South 9th Street, Manitowoc, Wisconsin 54220 | June 8, 2005 | 550236

(Catalog of Federal Domestic Assistance No. 83.100, “Flood Insurance.”)
Dated: September 26, 2005.
David I. Maurstad,
Acting Director, Mitigation Division, Emergency Preparedness and Response Directorate.

[FR Doc. 05-19816 Filed 10-3-05; 8:45 am]

BILLING CODE 9110-12-P